DEPARTMENT OF STATE

[Public Notice: 9595]

Request for Comments and Suggestions for Environmental Cooperation Pursuant to the United States-Bahrain Memorandum of Understanding on Environmental Cooperation

ACTION: Notice of preparation of the 2016-2019 United States-Bahrain Environmental Cooperation Plan of Action (the “Second POA”) and request for comments.

SUMMARY: The Department of State invites the members of the public, including non-governmental organizations (NGOs), educational institutions, private sector enterprises, and other interested persons, to submit written comments or suggestions regarding items for inclusion in a new Plan of Action for implementing the United States-Bahrain Memorandum of Understanding on Environmental Cooperation (MOU), signed on September 14, 2004. In preparing such comments or suggestions, we encourage submitters to refer to: (1) The United States-Bahrain MOU, (2) the United States-Bahrain Free Trade Agreement (FTA) Environment Chapter, (3) the Environmental Review of the FTA, and (4) 2006-2008 Plan of Action, dated October 1, 2006 (the “First POA”). These documents are available at: http://www.state.gov/e/oes/eqt/trade/bahrain/.

DATES: To be assured of timely consideration, all written comments or suggestions are requested no later than July 5, 2016.

ADDRESSES: Written comments or suggestions may be submitted in any of the following three ways:

—You may view and comment on this notice by going to http://www.regulations.gov/#!home and searching on docket number: DOS-2016-0039. Please note that comments you submit are not private and will not be edited to remove identifying or contact information. The State Department cautions against including any information that you would not want publicly disclosed.

—You may also send your comment by electronic mail at CanuelET@state.gov with the subject line “U.S.-Bahrain Plan of Action.”

—You may mail your comment to Edward T. Canuel, Office of Environmental Quality and Transboundary Issues (OES/EQT), 2201 C Street NW., Suite 2726, U.S. Department of State, Washington, DC 20520.

FOR FURTHER INFORMATION CONTACT: Edward T. Canuel, telephone (202) 647-4828

SUPPLEMENTARY INFORMATION: United States-Bahrain MOU

The United States and Bahrain negotiated the MOU in parallel with the United States-Bahrain Free Trade Agreement. In Paragraph 3 of the MOU, the Governments state that they will develop and update, as appropriate, a POA. Priority projects for environmental cooperation in POAs are guided by the following subject areas set forth in the Annex to the MOU: (i) Environmental law and regulations; (ii) environmental impact assessments; (iii) environmental incentives/voluntary programs; (iv) air quality; (v) public participation in environmental protection; (vi) protection of water resources; (vii) coastal protection and preservation of marine resources; (viii) protection of endangered species; and (ix) environmental technology and business.

Disclaimer: This Public Notice is a request for comments and suggestions, and is not a request for applications. No granting of money is directly associated with this request for suggestions for the Second POA. There is no expectation of resources or funding associated with any comments or suggestions for the Second POA.

Dated: May 26, 2016.
Deborah Klepp,
Director, Office of Environmental Quality and Transboundary Issues, Department of State.

[FR Doc. 2016-13056 Filed 6-1-16; 8:45 am]

BILLING CODE 4710-09-P